FEDERAL COMMUNICATIONS COMMISSION

47 CFR Parts 73 and 74

[MB Docket No. 03-185; FCC 04-220]

Amendment of the Commission's Rules To Establish Rules for Digital Low Power Television, Television Translator, and Television Booster Stations and the Amend Rules for Digital Class A Television Stations

AGENCY: Federal Communications Commission.

ACTION: Final rule; announcement of effective date and public information collections approval.

SUMMARY: On May 25, 2005, the Federal Communications Commission received Office of Management and Budget (OMB) approval for the revised public information collections, OMB Control Numbers 3060-0016 and 3060-0932, Amendment of parts 73 and 74 of the Commission's Rules to Establish Rules for Digital Low Power Television, Television Translator, and Television Booster Stations and the Amend Rules for Digital Class A Television Stations, MB Docket No. 03-185; FCC 04-220. FCC 04-220 was published at 69 FR 69325 (November 29, 2004). Therefore, the Commission announces that the effective date of the rules contained in 47 CFR 74.701, 74.703, 74.705 74.707, 74.710 and 74.786 through 74.796 is September 15, 2005.

DATES: The effective date for the rules contained in 47 CFR 74.701, 74.703, 74.705, 74.707, 74.710, and 74.786 through 74.796 is September 15, 2005.

FOR FURTHER INFORMATION CONTACT: Questions concerning the rules should be directed to Shaun Maher, Federal Communications Commission, (202) 418-1600 or via the Internet at Shaun.Maher@fcc.gov. For additional information concerning OMB control numbers 3060-0016 and 3060-0932 and the expiration dates of the information collections should be directed to Cathy Williams, Federal Communications Commission, (202) 418-2918 or via the Internet at Cathy.Williams@fcc.gov.

SUPPLEMENTARY INFORMATION: The Federal Communications Commission has received OMB approval for the revised information collections, OMB Control Number 3060-0016 and 3060-0932, Amendment of parts 73 and 74 of the Commission's Rules to Establish Rules for Digital Low Power Television, Television Translator, and Television Booster Stations and the Amend Rules for Digital Class A Television Stations, MB Docket No. 03-185; FCC 04-220. FCC 04-220 was published at 69 FR 69325 (November 29, 2004). Through this document, the Commission announces that it received OMB approval for OMB Control Numbers 3060-0016 and 3060-0932 on May 25, 2005 for the public information collections related to the new digital rules. The effective date for the rules contained in 47 CFR 74.701, 74.703, 74.705, 74.707, 74.710, and 74.786 through 74.796 is September 15, 2005.

Pursuant to the Paperwork Reduction Act of 1995, Public Law 104-13, an agency may not conduct or sponsor a collection of information unless it displays a currently valid control number. Notwithstanding any other provisions of law, no person shall be subject to any penalty for failing to comply with a collection of information subject to the Paperwork Reduction Act that does not display a valid control number.

OMB Control Number: 3060-0016.

OMB Approval Date: 05/25/2005.

OMB Expiration Date: 05/31/2008.

Title: Application for Authority to Construct or Make Changes in a Low Power TV, TV Translator, or TV Booster Station.

Form Number: FCC Form 346.

Respondents: Business or other for-profit entities; Not-for-profit institutions; State, local or tribal government.

Number of Respondents: 4,500.

Estimated Hours per Response: 7 hours.

Total Annual Burden: 31,500 hours.

Total Annual Costs: $13,491,000.

Needs and Uses: Licensees/permittees/applicants use FCC Form 346 to apply for authority to construct or make changes in a Low Power Television, TV Translator, or TV Booster broadcast station. On September 9, 2004, the Commission adopted a Report and Order, FCC 04-220, MB Docket Number 03-185, In the Matter of parts 73 and 74 of the Commission's Rules to Established Rules for Digital Low Power Television, Television Translator, and Television Booster Stations and to Amend Rules for Digital Class A Television Stations. To implement the new rules, the Commission revised FCC Form 346 to allow licensees/permittees/applicants to use the revised FCC Form 346 to file for digital stations or for conversion of existing analog to digital.

Applicants are also subject to the third party disclosure requirements under 47 CFR 73.3580. Within 30 days of tendering the application, the applicant is required to publish a notice in a newspaper of general circulation when filing all applications for new or major changes in facilities—the notice is to appear at least twice a week for two consecutive weeks in a three-week period. A copy of this notice must be maintained with the application. FCC staff use the data to determine if the applicant is qualified, meets basic statutory and treaty requirements, and will not cause interference to other authorized broadcast services.

OMB Control Number: 3060-0932.

OMB Approval Date: 05/25/2005.

OMB Expiration Date: 05/31/2008.

Title: Application for Authority to Construct or Make Changes in a Class A TV Broadcast Station.

Form Number: FCC Form 301-CA.

Respondents: Business or other for-profit entities; Not-for-profit institutions; State, local or tribal government.

Number of Respondents: 650.

Estimated Hours per Response: 7 hours.

Total Annual Burden: 4,550 hours.

Total Annual Costs: $3,703,700.

Needs and Uses: The FCC 301-CA is to be used in all cases by a Class A television station licensees seeking to make changes in the authorized facilities of such station. The FCC Form 301-CA requires applicants to certify compliance with certain statutory and regulatory requirements. Detailed instructions provide additional information regarding Commission rules and policies.

On September 9, 2004, the Commission adopted a Report and Order, FCC 04-220, MB Docket Number 03-185, In the Matter of parts 73 and 74 of the Commission's Rules to Established Rules for Digital Low Power Television, Television Translator, and Television Booster Stations and to Amend Rules for Digital Class A Television Stations. To implement these amendments, the Commission revised FCC Form 301-CA to allow licensees to use the revised FCC Form 301-CA to file for digital broadcast stations or conversion of their analog stations to digital. Class A applicants are also subject to third party disclosure requirement of § 73.3580 which requires local public notice in a newspaper of general circulation of the filing of all applications for major changes in facilities. This notice must be completed within 30 days of the tendering of the application. This notice must be published at least twice a week for two consecutive weeks in a three-week period. A copy of this notice must be placed in the public inspection file along with the application.

Federal Communications Commission.
Marlene H. Dortch,
Secretary.

[FR Doc. 05-19514 Filed 9-27-05; 8:45 am]

BILLING CODE 6712-01-P